DEPARTMENT OF COMMERCE

National Oceanic and Atmospheric Administration

RIN 0648-XG678

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Ecosystem Workgroup (EWG) will hold a meeting, which is open to the public.

DATES: The meeting will be held Tuesday, January 15 and Wednesday, January 16, 2019. The meeting will start at 1 p.m. on January 15 and 8:30 a.m. on January 16 and will continue until 4:30 p.m. on both days.

ADDRESSES: The meeting will be held at Hyatt Place Portland Airport/Cascade Station, Meeting Place 2, 9750 NE Cascades Parkway, Portland, OR 97220; phone: (503) 288-2808.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The purpose of the meeting is for the EWG to discuss assignments from the Pacific Council due at the March Council meeting. These include topic selection for a climate change scenario planning exercise and recommendations on changes to the Fishery Ecosystem Plan as part of the 5-year review. The EWG will also meet with the Groundfish Management Team and Highly Migratory Species Management Team to discuss climate change scenario planning topics.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Dated: December 19, 2018.
Tracey L. Thompson,
Acting Deputy Director, Office of Sustainable Fisheries, National Marine Fisheries Service.

[FR Doc. 2018-27837 Filed 12-21-18; 8:45 am]

BILLING CODE 3510-22-P